DEPARTMENT OF AGRICULTURE

Farm Service Agency

National Drought Policy Commission

AGENCY: Farm Service Agency, USDA.

ACTION: Notice of Commission Meeting.

SUMMARY: The National Drought Policy Commission (Commission) shall conduct a thorough study and submit a report to the President and Congress on national drought policy. This notice announces a meeting to be held on April 19, 2000, and April 20 if necessary. The Commission will review public comments submitted in response to its draft report, as well as discuss and approve the content of the Executive Summary and final report. The meeting is open to the public.

DATES: The Commission will conduct a meeting on April 19, 2000, from 8:00 a.m. to 5:00 p.m., and April 20, 2000, from 9:00 a.m. to 5:00 p.m., if necessary to complete its work, in the Jamie L. Whitten Federal Building, 12th and Jefferson Drive, SW, Washington, D.C. All times are Eastern Daylight Time.

Persons with disabilities who require accommodations to attend or participate in this meeting should contact Leona Dittus, on 202-720-3168, Federal Relay Service at 1-800-877-8339, or Internet: leona.dittus@usda.gov, by COB April 12, 2000.

ADDRESSES: Comments and statements should be sent to Leona Dittus, Executive Director, National Drought Policy Commission, U.S. Department of Agriculture, 1400 Independence Avenue, SW, Room 6701-S, STOP 0501, Washington, D.C. 20250-0501.

FOR FURTHER INFORMATION CONTACT: Leona Dittus (202) 720-3168; FAX (202) 720-9688; Internet: leona.dittus@usda.gov.

SUPPLEMENTARY INFORMATION: The purpose of the Commission is to provide advice and recommendations to the President and Congress on the creation of an integrated, coordinated Federal policy, designed to prepare for and respond to serious drought emergencies. Tasks for the Commission include developing recommendations that will (a) better integrate Federal laws and programs with ongoing State, local, and tribal programs, (b) improve public awareness of the need for drought mitigation, prevention, and response and (c) determine whether all Federal drought preparation and response programs should be consolidated under one existing Federal agency, and, if so, identify the agency.

The Commission's draft vision statement is of a well-informed, involved U. S. citizenry and its governments prepared for and capable of lessening the impacts of drought—consistently and timely. Drought policy should improve national security and foster economic prosperity, environmental quality, and social well being. It should also benefit future generations as well as our own.

Signed at Washington, D.C., on March 29, 2000.
Keith Kelly,
Administrator, Farm Service Agency.

[FR Doc. 00-8227 Filed 4-3-00; 8:45 am]

BILLING CODE 3410-05-P